DEPARTMENT OF THE INTERIOR

Bureau of Land Management

[WY-040-01-1610]

Notice of Intent To Prepare an Environmental Impact Statement for the Coordinated Activity Plan for the Jack Morrow Hills Area, Sweetwater, Fremont, and Sublette Counties, WY

AGENCY: Bureau of Land Management, Interior.

ACTION: Notice of intent.

SUMMARY: The Bureau of Land Management (BLM) Rock Springs Field Office proposes to prepare a Supplemental Draft Environmental Impact Statement (EIS), Coordinated Activity Plan (CAP), and amendment to the Green River Resource Management Plan (GRRMP) for the Jack Morrow Hills (JMH) area of Wyoming. The JMH CAP is an integrated activity planning effort to provide more specific management direction for certain public lands located in Sweetwater, Fremont, and Sublette Counties, Wyoming. The JMH CAP will amend the GRRMP with regard to fluid mineral leasing and mineral location. Comments to the draft EIS for the CAP, issued in July 2000, resulted in the submission of new resource information; consequently, the BLM is preparing a supplemental draft EIS for the JMH CAP. To the extent possible, existing analyses and information used to prepare the original draft EIS will be updated and used in preparing the supplemental draft EIS.

This notice also requests any resource information, including fluid mineral resource information (oil and gas, coalbed methane), mineral location information (gold, diamonds), operational or development plans, and other resource information that will help in developing fluid mineral and mineral location management direction, Resource Management Plan (RMP) decisions, and in analyzing environmental impacts.

DATES: The official scoping period for this planning effort will commence with the publication of this notice. Open house workshops will be scheduled in Lander and Rock Springs, Wyoming, during the week of December 9, 2001. Two scoping meetings will be held in these same locations during the week of January 6, 2002. Notification of the open house-information sharing workshops and the scoping meetings will be done through public notices, media news releases, internet postings, and/or mailings. The purpose of these workshops and scoping meetings is to share information, identify specific concerns and issues pertaining to the various resource and land use values in the JMH CAP planning area, and to identify any data gaps, needs and data sources pertaining to the area. Scoping comments must be submitted by January 11, 2002, or within 30 days of publication of this notice, whichever occurs later.

Future meetings, hearings, or any other public involvement activities will be scheduled as needed. Notification of these activities will be through other public notices, media news releases, internet postings, or mailings.

ADDRESSES: Scoping comments must be submitted to: Rock Springs BLM Field Office, 280 Highway 191 North, Rock Springs, Wyoming 82901. Comments submitted by electronic mail should be sent to: rock_springs_wymail@blm.gov, reference Supplemental Draft in the subject line. All comments must include legible full name and return address on the envelope, letter, postcard, or e-mail. Public comments submitted for this planning effort, including names and street addresses of respondents, will be available for public review after the comment period closes at the Rock Springs Field Office during regular business hours (7:45 a.m. to 4:30 p.m.), Monday through Friday, except holidays. All submissions from organizations, or businesses, and from individuals who are representatives or officials of organizations, or businesses, will be made available for public inspection in their entirety. Individual respondents may request confidentiality. If you wish to withhold your name or address from public review, or from disclosure, under the Freedom of Information Act, you must state this prominently at the beginning of your comments. Such requests will be honored to the extent allowed by law.

FOR FURTHER INFORMATION CONTACT: Andy Tenney, Assistant Team Leader, Bureau of Land Management, Rock Springs Field Office, 280 Highway 191 North, Rock Springs, Wyoming 82901-3447, telephone number 307-352-0311.

SUPPLEMENTARY INFORMATION: The JMH CAP planning area contains 622,340 acres of Federal, State, and private lands. It includes Steamboat Mountain, the Greater Sand Dunes, White Mountain Petroglyphs, and Oregon Buttes Areas of Critical Environmental Concern (ACEC); seven wilderness study areas; and part of the South Pass Historic Landscape ACEC. BLM has deferred fluid mineral leasing and mineral location decisions in the Jack Morrow Hills core area and has placed a moratorium on fluid mineral leasing throughout the JMH CAP planning area pending completion of this CAP. This planning effort will address the leasing and development of energy resources; transportation planning, access, designation of roads; wildlife habitat and vegetation management; livestock grazing practices; and other issues.

In conformance with the Federal Land Policy and Management Act (FLPMA) and the National Environmental Policy Act (NEPA), a supplemental draft EIS will be prepared in the course of developing the CAP. The existing GRRMP and interim management criteria will guide management actions in the JMH CAP area until the CAP is completed.

BLM invites public identification of the issues that should be addressed in the JMH CAP planning process. Comments may be sent to the address above. Preliminary issues that have been identified to date include:

Issue 1: Minerals Resource Management and Rights-of-Way.

Issue 2: Resource Uses Affecting Vegetation, Soils, Air, and Watershed Values.

Issue 3: Recreation and Cultural Resource Management.

Issue 4: Special Management Area Resource Management.

Public participation will be an essential component of the supplemental draft EIS and Coordinated Activity Plan preparation process. Several techniques for public involvement will be used including: Federal Register announcements, one-to-one discussion with key groups and individuals interested in the JMH CAP area, internet postings, news releases and articles in the local media, and individual mailings to all parties who have expressed an interest in the process. For those persons wishing to be placed on this mailing list, a BLM contact is provided elsewhere in this notice.

RMP level decisions to be made through the CAP will constitute amendment to the Green River RMP and will be subject to protest by parties who participate in the planning process and who have an interest which is, or may be, adversely affected by the adoption of RMP decision as provided by Title 43, Code of Federal Regulations, § 1610.5-2 (43 CFR 1610.5-2).

Dated: November 13, 2001.
Alan R. Pierson,
State Director.

[FR Doc. 01-30277 Filed 12-5-01; 8:45 am]

BILLING CODE 4310-22-P